DEPARTMENT OF ENERGY

Federal Energy Regulatory Commission

Combined Notice of Filings #1

Take notice that the Commission received the following electric corporate filings:

Docket Numbers: EC17-197-000.

Applicants: Aspen Generating, LLC, Buchanan Generation, LLC, Allegheny Energy Supply Company, LLC.

Description: Joint Application of Aspen Generating, LLC, et al. for Approval Under Section 203 of the Federal Power Act and Request for a Shortened Comment Period.

Filed Date: 9/29/17.

Accession Number: 20170929-5308.

Comments Due: 5 p.m. ET 10/20/17.

Docket Numbers: EC17-198-000.

Applicants: West Penn Power Company.

Description: Application for Authorization Pursuant to Section 203(a)(1)(b) of the Federal Power Act of West Penn Power Company.

Filed Date: 9/29/17.

Accession Number: 20170929-5310.

Comments Due: 5 p.m. ET 10/20/17.

Docket Numbers: EC17-199-000.

Applicants: Mid-Atlantic Interstate Transmission, LLC.

Description: Application for Authorization Pursuant to Section 203 (a)(1)(b) of the Federal Power Act of Mid-Atlantic Interstate Transmission, LLC.

Filed Date: 9/29/17.

Accession Number: 20170929-5311.

Comments Due: 5 p.m. ET 10/20/17.

Docket Numbers: EC17-200-000.

Applicants: The Potomac Edison Company.

Description: Application for Authorization Pursuant to Section 203 (a)(1)(b) of the Federal Power Act of The Potomac Edison Company. Also submitted Attachments 2 and 3.

Filed Date: 9/29/17.

Accession Number: 20170929-5315; 20170929-5316; 20170929-5320.

Comments Due: 5 p.m. ET 10/20/17.

Take notice that the Commission received the following electric rate filings:

Docket Numbers: ER10-2214-003.

Applicants: Zion Energy LLC.

Description: Compliance filing: Informational Filing Regarding Upstream Change in Control to be effective N/A.

Filed Date: 9/29/17.

Accession Number: 20170929-5178.

Comments Due: 5 p.m. ET 10/20/17.

Docket Numbers: ER12-954-003.

Applicants: Calpine Mid Merit, LLC.

Description: Compliance filing: Informational Filing Regarding Upstream Change in Control to be effective N/A.

Filed Date: 9/29/17.

Accession Number: 20170929-5170.

Comments Due: 5 p.m. ET 10/20/17.

Docket Numbers: ER13-1589-001.

Applicants: RockGen Energy, LLC.

Description: Compliance filing: Informational Filing Regarding Upstream Change in Control to be effective N/A.

Filed Date: 9/29/17.

Accession Number: 20170929-5180.

Comments Due: 5 p.m. ET 10/20/17.

Docket Numbers: ER14-873-001.

Applicants: Calpine New Jersey Generation, LLC.

Description: Compliance filing: Informational Filing Regarding Upstream Change in Control to be effective N/A.

Filed Date: 9/29/17.

Accession Number: 20170929-5171.

Comments Due: 5 p.m. ET 10/20/17.

Docket Numbers: ER14-874-001.

Applicants: Calpine Bethlehem, LLC.

Description: Compliance filing: Informational Filing Regarding Upstream Change in Control to be effective N/A.

Filed Date: 9/29/17.

Accession Number: 20170929-5166.

Comments Due: 5 p.m. ET 10/20/17.

Docket Numbers: ER14-875-001.

Applicants: Calpine Mid-Atlantic Generation, LLC.

Description: Compliance filing: Informational Filing Regarding Upstream Change in Control to be effective N/A.

Filed Date: 9/29/17.

Accession Number: 20170929-5167.

Comments Due: 5 p.m. ET 10/20/17.

Docket Numbers: ER14-2762-003.

Applicants: Pine Bluff Energy, LLC.

Description: Compliance filing: Informational Filing Regarding Upstream Change in Control to be effective N/A.

Filed Date: 9/29/17.

Accession Number: 20170929-5182.

Comments Due: 5 p.m. ET 10/20/17.

Docket Numbers: ER15-2495-001.

Applicants: Calpine New Jersey Generation, LLC.

Description: Compliance filing: Informational Filing Regarding Upstream Change in Control to be effective N/A.

Filed Date: 9/29/17.

Accession Number: 20170929-5172.

Comments Due: 5 p.m. ET 10/20/17.

Docket Numbers: ER15-2735-003.

Applicants: Garrison Energy Center LLC.

Description: Compliance filing: Informational Filing Regarding Upstream Change in Control to be effective N/A.

Filed Date: 9/29/17.

Accession Number: 20170929-5176.

Comments Due: 5 p.m. ET 10/20/17.

Docket Numbers: ER17-2566-000.

Applicants: Calpine Mid-Atlantic Generation, LLC.

Description: Compliance filing: Informational Filing Regarding Upstream Change in Control to be effective 12/31/9998.

Filed Date: 9/29/17.

Accession Number: 20170929-5168.

Comments Due: 5 p.m. ET 10/20/17.

Docket Numbers: ER17-2575-000.

Applicants: Allegheny Energy Supply Company, LLC.

Description: Compliance filing: Informational Filing re Planned Transfer and eTariff record (original ER05-1417) to be effective 6/1/2014.

Filed Date: 9/29/17.

Accession Number: 20170929-5204.

Comments Due: 5 p.m. ET 10/20/17.

Take notice that the Commission received the following electric securities filings:

Docket Numbers: ES17-60-000.

Applicants: Trans-Allegheny Interstate Line Company.

Description: Application for Authorization Under Section 204(a) of the Federal Power Act to Issue Short-Term Debt Securities of Trans-Allegheny Interstate Line Company.

Filed Date: 9/29/17.

Accession Number: 20170929-5297.

Comments Due: 5 p.m. ET 10/20/17.

Docket Numbers: ES17-61-000.

Applicants: The Potomac Edison Company.

Description: Application for Authorization Under Section 204(a) of the Federal Power Act to Issue Short-Term Debt Securities of The Potomac Edison Company.

Filed Date: 9/29/17.

Accession Number: 20170929-5298.

Comments Due: 5 p.m. ET 10/20/17.

Docket Numbers: ES17-62-000.

Applicants: Pennsylvania Power Company.

Description: Application for Authorization Under Section 204(a) of the Federal Power Act to Issue Short-Term Debt Securities of Pennsylvania Power Company.

Filed Date: 9/29/17.

Accession Number: 20170929-5299.

Comments Due: 5 p.m. ET 10/20/17.

Docket Numbers: ES17-63-000.

Applicants: Pennsylvania Electric Company.

Description: Application for Authorization Under Section 204(a) of the Federal Power Act to Issue Short-Term Debt Securities of Pennsylvania Electric Company.

Filed Date: 9/29/17.

Accession Number: 20170929-5300.

Comments Due: 5 p.m. ET 10/20/17.

Docket Numbers: ES17-64-000.

Applicants: Monongahela Power Company.

Description: Application for Authorization Under Section 204(a) of the Federal Power Act to Issue Short-Term Debt Securities of Monongahela Power Company.

Filed Date: 9/29/17.

Accession Number: 20170929-5301.

Comments Due: 5 p.m. ET 10/20/17.

Docket Numbers: ES17-65-000.

Applicants: Allegheny Generating Company.

Description: Application for Authorization Under Section 204(a) of the Federal Power Act to Issue Short-Term Debt Securities of Allegheny Generating Company.

Filed Date: 9/29/17.

Accession Number: 20170929-5302.

Comments Due: 5 p.m. ET 10/20/17.

Docket Numbers: ES17-66-000.

Applicants: Jersey Central Power & Light Company.

Description: Application for Authorization Under Section 204(a) of the Federal Power Act to Issue Short-Term Debt Securities of Jersey Central Power & Light Company.

Filed Date: 9/29/17.

Accession Number: 20170929-5303.

Comments Due: 5 p.m. ET 10/20/17.

Docket Numbers: ES17-67-000.

Applicants: Metropolitan Edison Company.

Description: Application for Authorization Under Section 204(a) of the Federal Power Act to Issue Short-Term Debt Securities of Metropolitan Edison Company.

Filed Date: 9/29/17.

Accession Number: 20170929-5304.

Comments Due: 5 p.m. ET 10/20/17.

Docket Numbers: ES17-68-000.

Applicants: West Penn Power Company.

Description: Application for Authorization Under Section 204(a) of the Federal Power Act to Issue Short-Term Debt Securities of West Penn Power Company.

Filed Date: 9/29/17.

Accession Number: 20170929-5307.

Comments Due: 5 p.m. ET 10/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2017.
Nathaniel J. Davis, Sr.,
Deputy Secretary.

[FR Doc. 2017-21675 Filed 10-6-17; 8:45 am]

BILLING CODE 6717-01-P